NATIONAL SCIENCE FOUNDATION

Alan T. Waterman Award Committee; Notice of Meeting

In accordance with the Federal Advisory Committee Act (Pub. L. 92-463, as amended), the National Science Foundation (NSF) announces the following meeting:

Name and Committee Code: Alan T. Waterman Award Committee (1172).

Date and Time: January 21, 2021; 11:00 a.m. to 2:00 p.m.

Place: NSF, 2415 Eisenhower Avenue, Alexandria, VA 22314 (Virtual).

Type of Meeting: Closed.

Contact Person: Keith Sverdrup, Program Manager, (703) 292-4671. National Science Foundation, 2415 Eisenhower Avenue, Alexandria, VA 22314.

Purpose of Meeting: To provide advice and recommendations in the selection of the Alan T. Waterman Award recipient.

Agenda: To review and evaluate nominations as part of the selection process for awards.

Reason for Closing: The nominations being reviewed include information of a personal nature where disclosure would constitute unwarranted invasions of personal privacy. These matters are exempt under 5 U.S.C. 552b(c), (6) of the Government in the Sunshine Act.

Dated: December 26, 2020.
Crystal Robinson,
Committee Management Officer.

[FR Doc. 2020-28949 Filed 12-30-20; 8:45 am]

BILLING CODE 7555-01-P